DEPARTMENT OF AGRICULTURE

Animal and Plant Health Inspection Service

[Docket No. APHIS-2006-0055]

Notice of Request for Approval of an Information Collection; Animal Care; Educational and Outreach Efforts

AGENCY: Animal and Plant Health Inspection Service, USDA.

ACTION: New information collection; comment request.

SUMMARY: In accordance with the Paperwork Reduction Act of 1995, this notice announces the Animal and Plant Health Inspection Service's intention to initiate a new information collection activity associated with the Agency's Animal Care program. The activity involves surveying customers to determine the effectiveness of Animal Care's educational and outreach efforts.

DATES: We will consider all comments that we receive on or before January 8, 2007.

ADDRESSES: You may submit comments by either of the following methods:

• Federal eRulemaking Portal: Go to http://regulations.gov, select “Animal and Plant Health Inspection Service” from the agency drop-down menu, then click “Submit.” In the Docket ID column, select APHIS-2006-0055 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0055, Regulatory Analysis and Development, PPD, APHIS, Station 3A-03.8, 4700 River Road Unit 118, Riverdale, MD 20737-1238. Please state that your comment refers to Docket No. APHIS-2006-0055.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on an information collection associated with effectiveness of Animal Care's educational and outreach efforts, contact Dr. Jodie Kulpa-Eddy, Senior Staff Veterinarian, Animal Care, APHIS, 4700 River Road Unit 84, Riverdale, MD 20737; (301) 734-7833. For copies of more detailed information on the information collection, contact Mrs. Celeste Sickles, APHIS' Information Collection Coordinator, at (301) 734-7477.

SUPPLEMENTARY INFORMATION:

Title: Animal Care; Educational and Outreach Efforts.

OMB Number: 0579-XXXX.

Type of Request: Approval of a new information collection.

Abstract: The Animal and Plant Health Inspection Service, Animal Care program, conducts inspections to administer and enforce the Animal Welfare Act and the Horse Protection Act and regulations issued under those Acts. Animal Care also conducts workshops, symposia, and meetings, and other activities to educate regulated entities and the public about these Acts and regulations.

Animal Care plans to survey participants in these activities to measure the effectiveness of its outreach and educational efforts. The surveys would be distributed to attendees following workshops, symposia, meetings, and other events, as well as attached to educational material provided to the public. Survey questions would seek to determine whether the information was helpful and how it might be improved.

Animal Care plans to use the information collected through these surveys to assess the effectiveness of its efforts and to plan improvements to activities.

We are asking OMB to approve our use of this information collection activity for 3 years. The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.08222 hours per response.

Respondents: Outreach contacts, partnership efforts, and educational contacts.

Estimated annual number of respondents: 2,700.

Estimated annual number of responses per respondent: 1.

Estimated annual number of responses: 2,700.

Estimated total annual burden on respondents: 222 hours. (Due to averaging, the total annual burden hours may not equal the product of the annual number of responses multiplied by the reporting burden per response.)

All responses to this notice will be summarized and included in the request for OMB approval. All comments will also become a matter of public record.

Done in Washington, DC, this 3rd day of November 2006.
Kevin Shea,
Acting Administrator, Animal and Plant Health Inspection Service.

[FR Doc. E6-19017 Filed 11-8-06; 8:45 am]

BILLING CODE 3410-34-P